DEPARTMENT OF EDUCATION

National Assessment Governing Board

Committee and Quarterly Board Meetings

AGENCY: National Assessment Governing Board, Department of Education.

ACTION: Notice of open and closed meetings.

SUMMARY: This notice sets forth the agenda, time, and instructions to access the National Assessment Governing Board's (hereafter referred to as the Board or Governing Board) standing committee meetings and quarterly Governing Board meeting. This notice provides information to members of the public who may be interested in attending the meetings and/or providing written comments related to the work of the Governing Board. The meetings will be held either in person and/or virtually, as noted below. Members of the public must register in advance to attend the meetings virtually. A registration link will be posted on the Governing Board's website, www.nagb.gov, five (5) business days prior to each meeting.

DATES: The Quarterly Board Meeting will be held on the following dates:

• November 14, 2024, from 9:45 a.m. to 3:15 p.m., ET

• November 15, 2024, from 8:00 a.m. to 2:00 p.m., ET

ADDRESSES: Royal Sonesta Capitol Hill, 20 Massachusetts Avenue NW, Washington, DC 20001.

FOR FURTHER INFORMATION CONTACT: Angela Scott, Designated Federal Officer (DFO) for the Governing Board, 800 North Capitol Street NW, Suite 825, Washington, DC 20002, telephone: (202) 357-7502, fax: (202) 357-6945, email: Angela.Scott@ed.gov.

SUPPLEMENTARY INFORMATION:

Statutory Authority and Function: The Governing Board is established under the National Assessment of Educational Progress Authorization Act (20 U.S.C. 9621). Information on the Governing Board and its work can be found at www.nagb.gov. Notice of the meetings is required under section 1009(a)(2) of 5 U.S.C. chapter 10 (commonly known as the Federal Advisory Committee Act). The Governing Board formulates policy for the National Assessment of Educational Progress (NAEP) administered by the National Center for Education Statistics (NCES). The Governing Board's responsibilities include:

(1) selecting the subject areas to be assessed; (2) developing appropriate student achievement levels; (3) developing assessment objectives and testing specifications that produce an assessment that is valid and reliable, and are based on relevant widely accepted professional standards; (4) developing a process for review of the assessment which includes the active participation of teachers, curriculum specialists, local school administrators, parents, and concerned members of the public; (5) designing the methodology of the assessment to ensure that assessment items are valid and reliable, in consultation with appropriate technical experts in measurement and assessment, content and subject matter, sampling, and other technical experts who engage in large scale surveys; (6) measuring student academic achievement in grades 4, 8, and 12 in the authorized academic subjects; (7) developing guidelines for reporting and disseminating results; (8) developing standards and procedures for regional and national comparisons; (9) taking appropriate actions needed to improve the form, content use, and reporting of results of an assessment; and (10) planning and executing the initial public release of NAEP results.

Standing Committee Meetings

The Governing Board's standing committees will meet to conduct regularly scheduled work. Standing committee meeting agendas and meeting materials will be posted on the Governing Board's website, www.nagb.gov, no later than five (5) business days prior to the meetings. Minutes of prior standing committee meetings are available at https://www.nagb.gov/governing-board/quarterly-board-meetings.html.

Standing Committee Meetings

Wednesday, October 30, 2024

Executive Committee (Virtual Meeting)

2:00 p.m.-2:50 p.m. (ET), Open Session

2:50 p.m.-4:00 p.m. (ET), Closed Session

The Executive Committee will meet in open session on Wednesday, October 30, 2024, from 2:00 p.m.-2:50 p.m. to review the November 14-15, 2024, quarterly Board meeting agenda, receive updates from the Executive Director on Board priorities, and receive an update from the Assessment Development Committee. There will be a break from 2:50 p.m.-2:55 p.m. From 2:50 p.m.-4:00 p.m., the Executive Committee will meet in closed session to discuss the NAEP budget and contracts. The session must be closed to the public because the discussions pertain to the federal budget and acquisition process. Public disclosure of this confidential information would significantly impede implementation of the NAEP assessment program if conducted in open session. Such matters are protected by exemption 9(B) of the Government in the Sunshine Act, 5 U.S.C. 552b.

Wednesday, November 13, 2024

Nominations Committee (In-Person Meeting)

4:30 p.m.-5:30 p.m. (ET), Closed Session

The Nominations Committee will meet in closed session on Wednesday, November 13, 2024, from 4:30 p.m. to 5:30 p.m. to discuss applications for Board vacancies for the 2024-2025 nominations cycle as well as the rating process and member assignments for reviewing the applications. The discussion pertains to information of a personal nature where disclosure would constitute a clearly unwarranted invasion of personal privacy. As such, the discussions are protected by exemption 6 of the Government Sunshine Act, 5 U.S.C. 552b.

Thursday, November 14, 2024

Executive Committee (In-person)

8:30 a.m.-9:30 a.m. (ET), Open Session

The Executive Committee will meet in open session on Thursday, November 14, 2024, from 8:30 a.m.-9:30 a.m. to receive remarks from the Board Chair and an update from the Executive Director, and to discuss issues related to the implementation of the Board's recently-adopted strategic vision.

Assessment Development Committee (In-Person Meeting)

3:30 p.m.-4:20 p.m. (ET), Closed Session

4:20 p.m.-5:30 p.m. (ET), Closed Session

The Assessment Development Committee will meet in closed session on Thursday, November 14, 2024, from 3:30 p.m.-4:20 p.m. to receive an overview of the current NAEP U.S. History and Civics Frameworks and Assessments. This review must be conducted in closed session because the content includes secure assessment items that have not been released to the public. Public disclosure of this information would significantly impede the implementation of the NAEP assessment program if conducted in open session. Such matters are protected by exemption 9(B) of the Government in the Sunshine Act, 5 U.S.C. 552b. The committee will then convene in open session from 4:20 p.m.-5:30 p.m. From 4:20 p.m. to 5:10 p.m., the committee will hear the initial discussions of the Social Studies Advisory Content Group. From 5:10 p.m. to 5:30 p.m., the committee will receive updates and engage in an open discussion.

Committee on Standards, Design and Methodology (In-Person Meeting)

3:30 p.m.-4:35 p.m. (ET), Closed Session

4:35 p.m.-5:30 p.m. (ET), Closed Session

The Committee on Standards, Design and Methodology will meet on Thursday, November 14, 2024, from 3:30 p.m. to 5:30 p.m. The committee will meet in closed session from 3:30 p.m. to 4:35 p.m., to receive a presentation on the findings of the dress rehearsal of the Automated Scoring of Reading items. The committee will transition to receive a presentation on findings from the Bridge study comparing the use of Chromebooks to Surface Pros from 4:35 p.m. to 5:30 p.m. These sessions must be closed because they will include findings and presentations of items that have not been released to the public. Public disclosure of this confidential information would significantly impede implementation of the NAEP assessment program if conducted in open session. Such matters are protected by exemption 9(B) of the Government in the Sunshine Act, 5 U.S.C. 552b.

Reporting and Dissemination Committee (In-Person Meeting)

3:30 p.m.-5:30 p.m. (ET) Open Session

The Reporting and Dissemination Committee will meet on Thursday, November 14, 2024, in open session from 3:30 p.m. to 5:30 p.m. The committee will open with remarks from new committee leadership from 3:30 to 3:45 p.m., followed by an update on Strategic Communications from 3:45 p.m. to 4:30 p.m., a discussion on the Release Plan for 2024 NAEP Reading and Mathematics Results from 4:35 p.m. to 5:15 p.m., and review and discussion of the Reporting Policy from 5:15 p.m. to 5:30 p.m.

Quarterly Governing Board Meeting

The plenary sessions of the Governing Board's November 2024 quarterly meeting will be held on the following dates and times:

Thursday, November 14, 2024

9:45 a.m.-3:15 p.m. (ET) (Hybrid Meeting)

9:45 a.m.-12:15 p.m. (ET), Open Session

12:30 p.m.-2:00 p.m. (ET), Closed Session

2:15 p.m.-3:15 p.m. (ET) Open Session

On Thursday, November 14, 2024, the plenary session of the quarterly Governing Board meeting will convene in open session from 9:45 a.m. to 12:15 p.m. and 2:15 p.m. to 3:15 p.m., and in closed session from 12:30 p.m. to 2:00 p.m. From 9:45 a.m. to 9:50 a.m., Beverly Perdue, Chair of the Governing Board, will welcome members, review and approve the November 14-15, 2024, quarterly Governing Board meeting agenda, and approve the minutes from the August 8-9, 2024, Governing Board meeting. From 9:50 a.m. to 10:20 a.m., new and reappointed Board members will be sworn into office, and make introductory remarks from 10:20 a.m. to 10:45 a.m. Other Board members will introduce themselves and welcome new members from 10:45 a.m.-11:15 a.m.

From 11:15 a.m. to 11:45 a.m., Lesley Muldoon, Governing Board Executive Director, will provide updates on the Board's work, followed by an update from NCES Commissioner Peggy Carr from 11:45 a.m. to 12:15 p.m. Following a fifteen-minute transitional break, the Board will meet in closed session from 12:30 p.m. to 2:00 p.m., to receive an update on the NAEP Budget and Contracting from NCES Commissioner Peggy Carr and NCES Associate Commissioner Dan McGrath. The briefing and discussions may impact current and future NAEP contracts and budgets and must be kept confidential to maintain the integrity of the federal acquisition process. Public disclosure of this confidential information would significantly impede implementation of the NAEP assessment program if conducted in open session. Such matters are protected by exemption 9(B) of section 552b(c) of title 5 of the United States Code.

The Board will meet in open session from 2:15 p.m. to 3:15 p.m. to discuss proposed revisions to the Assessment Framework Development Policy. The Thursday, November 14, 2024, session of the Governing Board meeting will adjourn at 3:15 p.m.

Friday, November 15, 2024

9:00 a.m.-2:00 p.m. (ET) (Hybrid Meeting)

9:00 a.m.-10:40 a.m. (ET), Closed Session

10:50 a.m.-2:00 p.m. (ET), Open Session

On Friday, November 15, 2024, the Governing Board meeting will convene in closed session from 9:00 a.m. to 10:40 a.m. and thereafter in open session from 10:50 a.m. to 2:00 p.m.

From 9:00 a.m. to 10:40 a.m., Governing Board members will receive a briefing on the 2024 NAEP Reading and Mathematics Assessment Report card results. This session must be closed because the presentation will include embargoed assessment data and results that cannot be released to the public at this time. Public disclosure of this confidential information would significantly impede implementation of the NAEP assessment program if conducted in open session. Such matters are protected by exemption 9(B) of the Government Sunshine Act, 5 U.S.C. 552b.

The Governing Board will reconvene in open session from 10:50 a.m. to 11:35 a.m., to discuss and take action on the release plan for the 2024 Nation's Report Card: Reading and Mathematics, Grades 4 and 8. From 11:45 a.m. to 12:15 p.m., members will receive updates on the work of the Board's standing committees.

From 12:15 p.m. to 1:30 p.m., members will discuss the draft Artificial Intelligence (AI) and NAEP Ethical Use Policy, followed by member discussion from 1:30 p.m. to 2:00 p.m. The Friday, November 15, 2024, session of the meeting will adjourn at 2:00 p.m.

Instructions for Accessing and Attending the Meetings

Registration: Members of the public may attend the November 14-15, 2024, meetings of the full Governing Board either in person or virtually. A link to the final meeting agenda and information on how to register for virtual attendance for the open sessions will be posted on the Governing Board's website, www.nagb.gov, no later than five (5) business days prior to the meeting. Registration is required to join the meeting virtually.

Public Comment: Written comments related to the work of the Governing Board and its standing committees may be submitted to the attention of the DFO, either via email to Angela.Scott@ed.gov or in hard copy to the address listed above. Written comments related to the November 14-15, 2024 Governing Board meeting should be submitted no later than close of business on November 6, 2024, and should reference the relevant agenda item.

Access to Records of the Meeting: Pursuant to 5 U.S.C. 1009, the public may inspect the meeting materials and other Governing Board records at 800 North Capitol Street NW, Suite 825, Washington, DC 20002, by emailing Angela.Scott@ed.gov to schedule an appointment. The official verbatim transcripts of the open meeting sessions will be available for public inspection no later than 30 calendar days following each meeting and will be posted on the Governing Board's website. Requests for the verbatim transcriptions may be made via email to the DFO.

Reasonable Accommodations: The meeting location is accessible to individuals with disabilities. If you will need an auxiliary aid or service to participate in the meeting (e.g., interpreting service, assistive listening device, or materials in an alternate format), notify the DFO listed in this notice by close of business on November 6, 2024.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, title III, section 301—National Assessment of Educational Progress Authorization Act (20 U.S.C. 9621).

Lesley Muldoon,
Executive Director, National Assessment Governing Board (NAGB), U. S. Department of Education.

[FR Doc. 2024-24274 Filed 10-18-24; 8:45 am]

BILLING CODE 4000-01-P